DEPARTMENT OF EDUCATION

34 CFR Chapter VI

[Docket ID ED-2023-OPE-0123]

Negotiated Rulemaking Committee; Announcement of Fourth Session of Committee Meetings—Title IV Federal Student Aid Programs, Student Debt Relief

AGENCY: Office of Postsecondary Education, Department of Education.

ACTION: Notice of intent to establish negotiated rulemaking committee; amendment.

SUMMARY: On August 31, 2023, we announced our intention to establish the Student Debt Relief Negotiated Rulemaking Committee (Committee) to develop proposed regulations related to the modification, waiver, release, or compromise of Federal student loans under the Higher Education Act of 1965, as amended (HEA). We now announce a fourth session of Committee negotiations on February 22 and 23, 2024.

DATES: The dates, times, and location of the fourth Committee meeting are set out in the Amended Schedule for Negotiation Sessions section under SUPPLEMENTARY INFORMATION.

FOR FURTHER INFORMATION CONTACT: For information about the content of this document, including information about the negotiated rulemaking process or the schedule for negotiations, please contact Rene Tiongquico. Telephone: (202) 453-7513. Email: rene.tiongquico@ed.gov.

For information about negotiated rulemaking, see “The Negotiated Rulemaking Process for Title IV Regulations—Frequently Asked Questions” at https://www2.ed.gov/policy/highered/reg/hearulemaking/hea08/neg-reg-faq.html.

If you are deaf, hard of hearing, or have a speech disability and wish to access telecommunications relay services, please dial 7-1-1.

SUPPLEMENTARY INFORMATION: On August 31, 2023, we published in the Federal Register (88 FR 60163) an announcement of our intent to establish the Committee under section 492 of the HEA to develop proposed regulations related to section 432(a) of the HEA, which relate to the modification, waiver, or compromise of Federal student loans by the Department. In that announcement, we set a schedule for Committee meetings and requested nominations for individual negotiators who represent key stakeholder constituencies for the issue to be negotiated to serve on the Committee. The Committee met on October 10-11, November 6-7, and December 11-12, 2023. During the negotiation sessions, the Committee discussed proposed regulations presented by the Department. At the end of the third negotiation session, the Committee took final consensus checks on each of the proposed regulations presented by the Department. In addition to the proposed regulations presented by the Department, the Committee discussed whether and how the Department could identify borrowers who are facing hardship but whose situations may not be reflected in either existing regulations or in the proposed regulations considered by the Committee.

Based upon a continued review of information related to hardship, the Department will convene the Committee for a fourth session to discuss only proposed regulations relating to that issue. The Committee will not discuss the proposed regulations for which it already conducted final consensus checks.

Amended Schedule for Negotiation Sessions: The Committee will meet for a fourth session on February 22-23, 2024.

Session times will be from 10 a.m. to 12 p.m. and 1 p.m. to 4 p.m., with a public comment period from approximately 3 p.m. to 4 p.m., Eastern time on February 22, 2024. The Department will hold public comment only on February 22, 2024.

This session will be conducted virtually and available for the public to view. Individuals who wish to observe the Committee meetings must register. We will post a registration link closer to the start of negotiations on our website at www2.ed.gov/policy/highered/reg/hearulemaking/2023/index.html. The Department will also post recordings and transcripts of the meetings on that site.

We will provide information on how to request time to speak on our website at www2.ed.gov/policy/highered/reg/hearulemaking/2023/index.html.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to this Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site. You may also access the documents of the Department published in the Federal Register by using the article search feature at www.federalregister.gov. Specifically, through the advanced search feature at this site, you can limit your search to documents published by the Department.

Program Authority: 20 U.S.C. 1098a.

Nasser H. Paydar,
Assistant Secretary, Office of Postsecondary Education.

[FR Doc. 2024-02107 Filed 2-1-24; 8:45 am]

BILLING CODE 4000-01-P